DEPARTMENT OF THE INTERIOR

Bureau of Land Management

[LLCAN00000.L18200000.XZ0000]

Notice of Public Meeting: Northeast California Resource Advisory Council and Subcommittee

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The RAC Resource Management Plan Implementation Subcommittee will meet Tuesday, May 19, 2009, at 10 a.m. at the BLM Eagle Lake Field Office, 2950 Riverside Drive, Susanville, CA. The meeting is open to the public. The full RAC will meet Thursday and Friday, June 4-5, 2009, at the BLM Alturas Field Office, 708 West 12th St., Alturas, CA. On June 4, the council meets at 10 a.m. for a field tour of public lands managed by the Alturas Field Office. Members of the public are welcome; they must provide their own transportation and lunch. On June 5, the meeting begins at 8 a.m. and is open to the public. Public comments will be heard at 11 a.m.

FOR FURTHER INFORMATION CONTACT: Tim Burke, BLM Alturas Field Office manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. The May 19 subcommittee meeting will focus on implementation of resource management plans for the Alturas, Eagle Lake and Surprise field offices. At the June 4-5 full RAC meeting agenda topics include a report from the subcommittee, a status report on the Wild Horse and Burro Program, a summary of northeast California projects using federal stimulus funds, an update on proposed wind energy projects, a status report on the Sage Steppe Ecosystem Restoration Strategy, and an update on planning for the Modoc Line. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: April 20, 2009.
Joseph J. Fontana,
Public Affairs Officer.

[FR Doc. E9-9796 Filed 4-28-09; 8:45 am]

BILLING CODE 4310-40-P